DEPARTMENT OF ENERGY

Federal Energy Regulatory Commission

[Docket No. CP00-408-000

Columbia Gas Transmission Corporation; Notice of Application

July 28, 2000.

Take notice that on July 19, 2000, Columbia Gas Transmission Corporation (Columbia), 12801 Fair Lakes Parkway, Fairfax, Virginia 22030-0146, filed a request with the Commission in Docket No. CP00-408-000 pursuant to Section 7(c) of the Natural Gas Act (NGA) for authorization to construct, install, and operate a 4,000 horsepower (HP) compressor unit at Columbia's existing Kenova Compressor Station in Wayne County, West Virginia, all as more fully set forth in the application which is open to the public for inspection. This application may be viewed on the web at http:www.ferc.fed.us/online/rims.htm (call 202-208-2222 for assistance).

Columbia proposes to construct, install, and operate a 4,000 HP compressor unit at the Kenova Compressor Station to accommodate increasing receipts of natural gas from local producers upstream of the compressor station. Columbia states that Columbia Natural Resources Inc. (CNR), the operator of gathering lines upstream of the Kenova Compressor Station, would make a contribution in aid of construction to Columbia of 100 percent of the construction cost, estimated at $3,227,000.

Any person desiring to be heard or to make any protest with reference to said application should on or before August 18, 2000, file with the Federal Energy Regulatory Commission, 888 First Street, NE., Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Any questions regarding the application should be directed to Fredric J. George, Attorney, Columbia Gas Transmission Corporation, P.O. Box 1273, Charleston, West Virginia 25325-1273, (304) 357-2359.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Columbia to appear or be represented at the hearing.

Linwood A. Watson, Jr.,
Acting Secretary.

[FR Doc. 00-19604 Filed 8-2-00; 8:45 am]

BILLING CODE 6717-01-M